DEPARTMENT OF THE TREASURY

United States Mint

Establish Prices for 2025 United States Mint Numismatic Products

AGENCY: United States Mint, Department of the Treasury.

ACTION: Notice.

The United States Mint is announcing pricing for four United States Mint numismatic silver products in accordance with the table below:

Product | Retail price
250TH ANNIVERSARY UNITED STATES ARMY AMERICAN EAGLE ONE OUNCE SILVER PROOF COIN | $105.00
250TH ANNIVERSARY UNITED STATES NAVY AMERICAN EAGLE ONE OUNCE SILVER PROOF COIN | 105.00
250TH ANNIVERSARY UNITED STATES MARINE CORPS AMERICAN EAGLE ONE OUNCE SILVER PROOF COIN | 105.00
2025 LASER ENGRAVED AMERICAN EAGLE ONE OUNCE SILVER PROOF COIN | 105.00

The new numismatic product prices will be effective June 13, 2025.

FOR FURTHER INFORMATION CONTACT: Willie Pasco; Product Manager, Sales & Marketing, United States Mint; 801 9th Street NW, Washington, DC 20220; or call 202-354-6725.

Authority & Public Law: 31 U.S.C. 5111, 5112, and 9701.

Eric Anderson,
Executive Secretary, United States Mint.

[FR Doc. 2025-10327 Filed 6-5-25; 8:45 am]

BILLING CODE 4810-37-P